DEPARTMENT OF HEALTH AND HUMAN SERVICES

Administration for Children and Families

[OMB #0970-0351]

Submission for OMB Review; State Plan for Grants to States for Refugee Resettlement

AGENCY: Office of Refugee Resettlement, Administration for Children and Families, HHS.

ACTION: Request for public comment.

SUMMARY: The Administration for Children and Families (ACF), Office of Refugee Resettlement (ORR) is requesting a 3-year extension of the ACF form ORR-0135 State Plan for Grants to States for Refugee Resettlement (OMB #0970-0351, expiration 3/31/2021). ORR is proposing changes to the form.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: A State Plan is a required comprehensive narrative description of the nature and scope of a state's or Replacement Designee's (RD) Refugee Resettlement Program and provides assurances that the program will be administered in conformity with the specific requirements stipulated in 45 CFR 400.4-400.9. The State Plan must include all applicable state or RD procedures, designations, and certifications for each requirement as well as supporting documentation. The plan assures ORR that the state or RD is capable of administering refugee assistance and coordinating employment and other social services for eligible caseloads in conformity with specific requirements.

Changes proposed to the previously approved State Plan for Grants to States for Refugee Resettlement information collection are described below. ORR is proposing:

• Streamlining/formatting changes to multiple sections of the form including technical corrections to regulatory citations and removing a number of requirements related to the now obsolete Wilson-Fish Alternative Program (superseded by the Wilson-Fish TANF Coordination Program, which will have its own separate reporting requirements).

• Adding a number of requirements related to Replacement Designees (RDs) to ensure that they are administering the Refugee Resettlement Program with transparency and equity and to the same standard as a state, including quarterly consultation process, Refugee Medical Assistance, Unaccompanied Refugee Minors (URM), and emergency planning to ensure ORR populations receive all necessary information and services to the extent possible.

• Requesting additional information related to the Refugee Support Services (RSS) program; ORR's current template does not provide sufficient detailed information for ORR to ascertain how a grantee intends to provide RSS services to its client base.

• Improving the URM section to correct inefficiencies, eliminate unnecessary items, and address the needs of victims of trafficking and Special Immigrant Juveniles now eligible for the URM program. In particular, ORR is soliciting states' and RDs' plans for placing children referred by ORR and ensuring alignment with federal capacity priorities.

Respondents: State agencies and RDs under 45 CFR 400.301(c) administering or supervising the administration of programs.

Annual Burden Estimates
Instrument | Total number of respondents | Total number of responses per respondent | Average burden hours per response | Total burden hours | Annual burden hours
State Plan for Grants to States for Refugee Resettlement | 62 | 3 | 18 | 3,348 | 1,116

Estimated Total Annual Burden Hours: 1,116.

Authority: 8 U.S.C. 1522 of the Immigration and Nationality Act (the Act) [Title IV, Sec. 412 of the Act] for each state agency requesting federal funding for refugee resettlement under 8 U.S.C. 524 [Title IV, Sec. 414 of the Act].

Mary Jones,
ACF/OPRE Certifying Officer.

[FR Doc. 2021-05966 Filed 3-22-21; 8:45 am]

BILLING CODE 4184-45-P